DEPARTMENT OF HEALTH AND HUMAN SERVICES

National Institutes of Health

Consensus Development Conference on Management of Hepatitis C: 2002

Notice is hereby given of the National Institutes of Health (NIH) Consensus Development Conference on “Management of Hepatitis C: 2002” to be held June 10-12, 2002, in the NIH Natcher Conference Center, 45 Center Drive, Bethesda, Maryland 20892. The conference will begin at 8 a.m. on June 10 and 11, and at 9 a.m. on June 12 and will be open to the public.

The hepatitis C virus (HCV) is the leading cause of liver disease in the United States and certainly the most common cause of cirrhosis and hepatocellular carcinoma; it is also the most common reason for liver transplantation. Almost 4 million people in this country are believed to be infected with this virus. A Consensus Development Conference on hepatitis C was held at the National Institutes of Health in March 1997. This led to an important, widely distributed NIH Consensus Statement that, for several years, was broadly accepted as the standard of care.

In the five years since that time, there has been a dramatic increase in knowledge of the condition, indicating the need to re-examine the approaches to management and treatment. This conference is convened with the aim of reviewing the most recent developments regarding management, treatment options, and the widening spectrum of potential candidates for treatment.

During the first day-and-a-half of the conference, experts will present the latest hepatitis C research findings to an independent, non-Federal panel. After weighing all of the scientific evidence, the panel will draft a statement, addressing the following key questions:

• What is the natural history of hepatitis C?

• What is the most appropriate approach to diagnose and monitor patients?

• What is the most effective therapy for hepatitis C?

• Which patients with hepatitis C should be treated?

• What recommendations can be made to patients to prevent transmission of hepatitis C?

• What are the most important areas for future research?

On the final day of the conference, the panel chairperson will read the draft statement to the conference audience and invite comments and questions. A press conference will follow, to allow the panel and chairperson to respond to questions from the media.

The primary sponsors of this meeting are the National Institute of Diabetes and Digestive and Kidney Diseases and the NIH Office of Medical Applications of Research. Cosponsors of the meeting are: Centers for Disease Control and Prevention (CDC), the U.S. Food and Drug Administration (FDA), the U.S. Department of Veterans Affairs (VA), the National Institute of Child Health and Human Development (NICHD), the National Cancer Institute (NCI), the National Center for Complementary and Alternative Medicine (NCCAM), the National Institute on Alcohol Abuse and Alcoholism (NIAAA), the National Institute of Allergy and Infectious Diseases (NIAID), and the National Heart, Lung, and Blood Institute (NHLBI).

Advance information about the conference and conference registration materials may be obtained from AIR Prospect Center of Silver Spring, Maryland, by calling 301-592-3320 or by sending e-mail to <hepatitisc@prospectassoc.com>. AIR Prospect Center's address is 10720 Columbia Pike, Suite 500, Silver Spring, Maryland 20901-4437. A conference agenda and registration information are also available on the NIH Consensus Program Web site at <http://consensus.nih.gov>.

Please Note: The NIH has recently instituted new security measures to ensure the safety of NIH employees and property. All visitors must be prepared to show a photo ID upon request. Visitors may be required to pass through a metal detector and have bags, backpacks, or purses inspected or x-rayed as they enter NIH buildings. Conference attendees may want to leave extra bags or personal materials at their hotel to minimize the time needed for inspection. For more information about the new security measures at NIH, please visit the Web site at <http://www.nih.gov/about/visitorssecurity.htm>.

Dated: March 25, 2002.
Ruth L. Kirschstein,
Acting Director, National Institutes of Health.

[FR Doc. 02-7814 Filed 3-29-02; 8:45 am]

BILLING CODE 4140-01-P